DEPARTMENT OF DEFENSE

Department of the Army

Availability for Non-Exclusive, Exclusive, or Partially Exclusive Licensing of U.S. Patent Application Concerning Disposable Pulse Oximeter Assembly and Protective Cover Therefor

AGENCY: U.S. Army Medical Research and Materiel Command, DoD.

ACTION: Notice.

SUMMARY: In accordance with 37 CFR 404.6, announcement is made of the availability for licensing of U.S. Patent Application Serial Number 09/389,353 entitled “Disposable Pulse Oximeter Assembly and Protective Cover Therefor” and filed September 3, 1999. Foreign rights are also available. This patent has been assigned to the United States Government as represented by the Secretary of the Army.

ADDRESSES: Commander, U.S. Army Medical Research and Materiel Command, ATTN: Command Judge Advocate, MCMR-JA, 504 Scott Street, Fort Detrick, Frederick, Maryland 21702-5012.

FOR FURTHER INFORMATION CONTACT: Ms. Elizabeth Arwine, Patent Attorney, (301) 619-7808 or telefax (301) 619-5034.

SUPPLEMENTARY INFORMATION: This invention is a protective covering to protect off-the-shelf disposable pulse oximeter sensors from bodily or surgical fluids. The protective covering will envelop or encase the inserted pulse oximeter sensor up to a point on the connection cable extending from the pulse oximeter sensor. The protective covering is a polypropylene, rubber, or similar material which is tapered from the large width at the entrance to the narrower width at the blind end. The protective covering is bilaminar in nature to contain a substantially rectangular pulse oximeter.

Gregory D. Showalter,
Army Federal Register Liaison Officer.

[FR Doc. 00-20568 Filed 8-11-00; 8:45 am]

BILLING CODE 3710-08-M